DEPARTMENT OF THE INTERIOR

Minerals Management Service

30 CFR Part 250

RIN 1010-AD23

Recovery of Costs Related to the Regulation of Oil and Gas Activities on the Outer Continental Shelf

AGENCY: Minerals Management Service (MMS), Interior.

ACTION: Advance Notice of Proposed Rulemaking (ANPR).

SUMMARY: MMS is proposing to develop regulations which impose new fees to cover MMS's costs of processing certain applications and permits. The purpose of this proposed rulemaking would be to charge those who benefit from the processing of applications and permits, rather than the general public. This document solicits recommendations and comments on the proposal to charge fees.

DATES: MMS will consider all comments received by April 25, 2005. MMS will begin reviewing comments and may not fully consider comments received after April 25, 2005.

ADDRESSES: You may submit comments on the rulemaking by any of the following methods listed below. Please use 1010-AD23 as the Regulation Identifier Number in your message. See also Public Comment Procedures under Procedural Matters.

• MMS's Public Connect on-line commenting system, https://ocsconnect.mms.gov. Follow the instructions on the website for submitting comments.

• Federal eRulemaking Portal: http://www.regulations.gov. Follow the instructions on the Web site for submitting comments.

• E-mail MMS at rules.comments@mms.gov. Use the Regulation Identifier Number (RIN) in the subject line.

• Fax: (703) 787-1093. Identify with RIN.

Mail or hand-carry comments to the Department of the Interior; Minerals Management Service; Attention: Rules Processing Team (RPT); 381 Elden Street, MS-4024; Herndon, Virginia 20170-4817. Please reference “Recovery of Costs Related to the Regulation of Oil and Gas Activities on the Outer Continental Shelf—AD23” in your comments.

FOR FURTHER INFORMATION CONTACT: Martin Heinze, Program Analyst at (703) 787-1010.

SUPPLEMENTARY INFORMATION: Public Comment Procedure: All submissions received must include the agency name and RIN for this rulemaking. MMS” practice is to make comments, including names and addresses of respondents, available for public review during regular business hours. Individual respondents may request that we withhold their address from the record, which we will honor to the extent allowable by law. There may be circumstances in which we would withhold from the record a respondent's identity, as allowable by law. If you wish us to withhold your name and/or address, you must state this prominently at the beginning of your comment. However, we will not consider anonymous comments. Except for proprietary information, we will make all submissions from organizations or businesses, and from individuals identifying themselves as representatives or officials of organizations or businesses, available for public inspection in their entirety.

Regulatory Background: Federal agencies are generally authorized to recover the costs of providing services to non-federal entities through the provisions of the Independent Offices Appropriations Act of 1952 (IOAA), 31 U.S.C. 9701. The governing language concerning cost recovery can be found in Office of Management and Budget (OMB) Circular No. A-25 which states in part, “The provisions of this Circular cover all federal activities that convey benefits to recipients beyond those accruing to the general public. When a service (or privilege) provides special benefits to an identifiable recipient, beyond those that accrue to the general public, a charge will be imposed to recover the full costs to the Federal Government for providing this specific benefit, or the market price. The general policy is that user charges will be instituted through the promulgation of regulations.”

Regulatory Objectives: This ANPR solicits comments, recommendations, and specific remarks on a proposal to initiate a program of collecting fees for reviewing certain plans and permit applications. MMS will carefully evaluate all timely received responses as we develop a rule. MMS is considering regulations requiring operators to pay MMS fees for the review of the following:

• Exploration Plans (§ 250.203).

• Development and Production Plans (§ 250.204).

• Deep Water Operations Plans (Gulf Of Mexico (GOM) Notice To Lessees No. 2000-N06).

• Applications for Permit to Drill (APD; form MMS-123).

• Application for Permit to Modify (APM; form MMS-124).

• Application to Remove a Platform (Required by § 250.1727).

• Platform Approvals (Required by § 250.901 for the installation or modification of a platform).

• Conservation Information Documents (GOM Notice To Lessees No. 2000-N05).

• G&G Permits: Permit for Geophysical Exploration for Mineral Resources or Scientific Research on the OCS (MMS-328); Permit for Geological Exploration for Mineral Resources or Scientific Research on the OCS (form MMS-329).

• Sand and Gravel Permits: Permit for Geophysical Prospecting for Mineral Resources or Scientific Research on the OCS Related to Minerals Other than Oil, Gas, and Sulphur (MMS-135); Permit for Geological Prospecting for Mineral Resources or Scientific Research on the OCS Related to Minerals Other than Oil, Gas, and Sulphur (form MMS-136).

MMS invites specific comments on the following:

1. Are there other actions for which MMS should require fees to recover costs from operators?

2. MMS plans to calculate the fees in a manner similar to that used in the recently published Cost Recovery Rule (RIN 1010-AD16, 70 FR 12626). Are there alternative ways to determine fair and equitable fees?

3. MMS may have large cost differences associated with issuing permits and reviewing plans in the different regions (GOM, Pacific, Alaska); should the fee be uniform nationwide or vary by region?

Dated: March 21, 2005.
R.M. “Johnnie” Burton,
Director, Minerals Management Service.

[FR Doc. 05-5884 Filed 3-24-05; 8:45 am]

BILLING CODE 4310-MR-P